DEPARTMENT OF JUSTICE

Immigration and Naturalization Service

[INS No. 2205-02]

Automatic Extension of Employment Authorization for Hondurans and Nicaraguans Under the Temporary Protected Status Program

AGENCY: Immigration and Naturalization Service, Justice.

ACTION: Notice.

SUMMARY: On May 3, 2002, the Immigration and Naturalization Service (Service) published notices in the Federal Register extending the designation of Honduras and Nicaragua under the Temporary Protected Status (TPS) program until July 5, 2003. The extension for TPS allows eligible nationals of Honduras and Nicaragua to re-register for TPS and extend employment authorization. The Service is aware that many re-registrants will not receive their new employment authorization documents (EADs) until after their current EADs expire on July 5, 2002. Accordingly, this notice extends, until December 5, 2002, the validity of EADs issued to Honduran or Nicaraguan nationals (or aliens having no nationality who last habitually resided in Honduras or Nicaragua) under the extension of the TPS program.

To be eligible for this automatic extension of employment authorization, an individual must be a national of Honduras or Nicaragua (or an alien having no nationality who last habitually resided in Honduras or Nicaragua) who currently holds an EAD that expires on July 5, 2002, and that was issued in conjunction with the TPS program for Honduras or Nicaragua. This automatic extension is limited to EADs bearing the expiration date of July 5, 2002, and the notation: “A-12” or “C-19” on the face of the card under “Category” for EADs issued on Form I-766; or, “274A.12(A)(12)” or “274A.12(C)(19)” on the face of the card under “Provision of Law” for EADs issued on Form I-688B.

DATES: This notice is effective July 5, 2002.

FOR FURTHER INFORMATION CONTACT: Emily Crowder Frazelle, Program Analyst, Residence and Status Branch, Office of Adjudications, Immigration and Naturalization Service, Room 3214, 425 I Street, NW., Washington, DC 20536, telephone (202) 514-4754.

SUPPLEMENTARY INFORMATION:

Why Is the Service Automatically Extending the Validity of EADs From July 5, 2002, to December 5, 2002?

Considering the large number of applications that the Service will receive in the 60-day re-registration period, it is likely that many re-registrants will receive their new EAD after the expiration date of their current EAD. In order to prevent a gap in employment authorization for qualified re-registrants, the Service is extending the validity of applicable EADs to December 5, 2002.

Who Is Eligible To Receive an Automatic Extension of Employment Authorization?

To be eligible for an automatic extension of employment authorization, an individual must be a national of Honduras or Nicaragua (or an alien having no nationality who last habitually resided in Honduras or Nicaragua) who previously applied for and received an EAD under the initial designation for Honduras or Nicaragua, or who later registered under the late initial registration provisions, and who timely re-registered for each subsequent TPS extension. This automatic extension is limited to EADs bearing an expiration date of July 5, 2002, and the notation: “A-12” or “C-19” on the face of the card under “Category” for EADs issued on Form I-766; or “274A.12(A)(12)” or 274A.12(C)(19)” on the face of the card under “Provision of Law” for EADs issued on Form I-688B.

Must Qualified Individuals Apply to the Service for the Automatic Extension of Their TPS-Related EADs?

No, qualified individuals do not have to apply for this automatic employment authorization extension to December 5, 2002. However, qualified individuals must re-register for TPS by July 2, 2002, in order to be eligible for a new EAD that is valid until July 5, 2003.

What Documents May a Qualified Individual Show to His or Her Employer as Proof of Employment Authorization and Identity When Completing the Employment Eligibility Verification Form (Form I-9)?

For completion of the Form I-9 at the time of hire or re-verification, qualified individuals who have received an extension of employment authorization by virtue of this Federal Register notice may present to their employer a TPS-related EAD as proof of valid employment authorization and identity until December 5, 2002. To minimize confusion over this extension at the time of hire or re-verification, qualified individuals may also present to their employer a copy of this Federal Register notice regarding the automatic extension of employment authorization to December 5, 2002. In the alternative, any legally acceptable document or combination of documents listed in List A, List B, or List C of the Form I-9 may be presented as proof of identity and employment eligibility, it is the choice of the employee.

How May Employers Determine Which EADs That Have Been Automatically Extended Through December 5, 2002, Are Acceptable for Completion of the Form I-9?

For purposes of verifying identity and employment eligibility or re-verifying employment eligibility on the Form I-9 until December 5, 2002, employers of Honduran or Nicaraguan TPS class members whose employment authorization has been automatically extended by this notice must accept an EAD that contains an expiration date of July 5, 2002, and that bears one of the following notations: “A-12” or “C-19” on the face of the card under “Category” for EADs issued on Form I-766; or, “274A.12(A)(12)” or “274A.12(c)(19)” on the face of the card under “Provision of Law” for EADs issued on Form I-688B. New EADs or extension stickers showing the December 5, 2002 expiration date will not be issued. Employers should not request proof of Honduran or Nicaraguan citizenship. Employers presented with an EAD that this Federal Register notice has extended automatically and that appears to be genuine and to relate to the employee should accept the document as a valid “List A” document and should not ask for additional Form I-9 documentation. This action by the Service through this Federal Register notice does not affect the right of an employee to present any legally acceptable document as proof of identity and eligibility for employment.

Employers are reminded that the laws prohibiting unfair immigration-related employment practices remain in full force. For questions, employers may call the Service's Office of Business Liaison Employer Hotline at 1-800-357-2099 to speak to a Service representative. Also, employers may call the Office of Special Counsel for Immigration Related Unfair Employment Practices (OSC) Employer Hotline at 1-800-255-8155. Employees or applicants may call the OSC Employee Hotline at 1-800-255-7688 for information regarding the automatic extension.

Does This Notice Affect Any Other Portion of the Federal Register Notices Extending the TPS Designation for Honduras and Nicaragua Until July 5, 2003?

No, this notice does not affect any other portion of the Federal Register notices extending the TPS designation for Honduras and Nicaragua. All other TPS requirements contained in the Federal Register notices that extend the TPS designation for Honduras and Nicaragua until July 5, 2003 (see notices for Honduras and Nicaragua, published elsewhere in this issue of the Federal Register), are accurate and remain in effect.

Dated: May 1, 2002.
James W. Zigar,
Commissioner, Immigration and Naturalization Service.

[FR Doc. 02-11158 Filed 5-1-02; 2:28 pm]

BILLING CODE 4410-10-M